DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Minority AIDS Initiative—Survey of Grantee Project Directors—NEW

The Substance Abuse and Mental Health Services Administration (SAMHSA) is requesting approval to conduct online surveys of grantee Project Directors. This is a new project request targeting the collection of primary, organizational-level data through an online survey with grantee Project Directors. The grantee programs that will be involved are focused on integrating HIV and Hepatitis primary care, substance abuse, and behavioral health services and include: (1) TI-12-007 Targeted Capacity Expansion HIV Program: Substance Abuse Treatment for Racial/Ethnic Minority Populations at High-Risk for HIV/AIDS (TCE-HIV) grantees; (2) TI-14-013 Minority AIDS Initiative—Continuum of Care (MAI-CoC) grantees; (3) TI-13-011 Targeted Capacity Expansion HIV Program: Substance Abuse Treatment for Racial/Ethnic Minority Women at High Risk for HIV/AIDS (TCE-HIV: Minority Women) grantees; and (4) TI-15-006 Targeted Capacity Expansion: Substance Use Disorder Treatment for Racial/Ethnic Minority Populations at High-Risk for HIV/AIDS (TCE-HIV: High Risk Populations) grantees.

The goals of the grantee programs are to integrate behavioral health treatment, prevention, and HIV medical care services for racial/ethnic minority populations at high risk for behavioral health disorders and at high risk for or living with HIV. The grantee programs serve many different populations including African American, Hispanic/Latina and other racial/ethnic minorities, young men who have sex with men (YMSM), men who have sex with men (MSM) and bisexual men, adult heterosexual women and men, transgender persons, and people with substance use disorder. Project Director Surveys conducted with grantees are an integral part of evaluation efforts to: (1) Assess the impact of the SAMHSA-funded HIV programs in: Reducing behavioral health disorders and HIV infections; increasing access to substance use disorder (SUD) and mental disorder treatment and care; improving behavioral and mental health outcomes; and reducing HIV-related disparities in four specific grant programs; (2) Describe the different integrated behavioral health and medical program models; and (3) Determine which program types or models are most effective in improving behavioral health and clinical outcomes. SAMHSA will request one web-based survey to be completed by each of the 152 grantee Project Directors. Project Directors may request assistance from another project administrator to help them complete the survey. The web-based survey will be conducted once for grantees in each grant program, in the grantee organization's final year of TCE-HIV (TI-12-007, TI-13-011, TI-15-006) or MAI CoC (TI-14-013) funding, with an annual average of 50 grantees/100 respondents per year. Project Directors will provide information on their program's integration of HIV and Hepatitis medical and primary care into behavioral health services and project implementation. While participating in the evaluation is a condition of the grantees' funding, participating in the survey process is voluntary. The questionnaire is designed to collect information about: Grantee organizational structure, outreach and engagement, services provided through the grant-funded project, coordination of care, behavioral health/medical care integration, funding and project sustainability, staffing and staff development.

The table below is the annualized burden hours:

Estimate of Annual Average Reporting Burden: Project Director Survey
Data collection tool | Number of respondents | Responses per respondent | Hour per response | Total burden hours
Project Director Survey | 100 | 1 | 1 | 100

Send comments to Summer King, SAMHSA Reports Clearance Officer, 5600 Fishers Lane, Room 15E57-B, Rockville, Maryland 20857, OR email a copy to summer.king@samhsa.hhs.gov. Written comments should be received by December 6, 2016.

Summer King,
Statistician.

[FR Doc. 2016-24266 Filed 10-6-16; 8:45 am]

BILLING CODE 4162-20-P